DEPARTMENT OF COMMERCE

National Institute of Standards and Technology

National Artificial Intelligence Advisory Committee

AGENCY: National Institute of Standards and Technology, Department of Commerce.

ACTION: Notice of open meeting.

SUMMARY: The National Institute of Standards and Technology (NIST) announces that the National Artificial Intelligence Advisory Committee (NAIAC or Committee) will hold an open meeting via web conference on Wednesday, December 13, 2023, from 1:00 p.m.-2:00 p.m. Eastern time. The primary purpose of this meeting is for the Committee to share and discuss updates on each working group's goals and deliverables. The Committee will also deliberate on draft findings and recommendations. The final agenda will be posted to the NAIAC website: ai.gov/naiac/.

DATES: The meeting will be held on Wednesday, December 13, 2023 from 1 p.m.-2 p.m. eastern time.

ADDRESSES: The meeting will be held via web conference. For instructions on how to attend and/or participate in the meeting, please see the SUPPLEMENTARY INFORMATION section of this notice.

FOR FURTHER INFORMATION CONTACT: Alicia Chambers, Committee Liaison Officer, National Institute of Standards and Technology, 100 Bureau Drive, MS 1000, Gaithersburg, MD 20899, alicia.chambers@nist.gov or 301-975-5333. Please direct any inquiries to naiac@nist.gov.

SUPPLEMENTARY INFORMATION: Pursuant to the Federal Advisory Committee Act, as amended, 5 U.S.C 1001 et seq., notice is hereby given that the NAIAC will meet on Wednesday, December 13, 2023, from 1 p.m.-2 p.m. eastern time. The meeting will be open to the public and will be held via web conference. The primary purpose of this meeting is for the Committee to share and discuss updates on each working group's goals and deliverables. The Committee will also deliberate on draft findings and recommendations. The final agenda will be posted to the NAIAC website: ai.gov/naiac/.

The NAIAC is authorized by section 5104 of the National Artificial Intelligence Initiative Act of 2020 (Pub. L. 116-283, Div. E), in accordance with the provisions of the Federal Advisory Committee Act, as amended (FACA), 5 U.S.C. 1001 et seq. The Committee advises the President and the National Artificial Intelligence Initiative Office on matters related to the National Artificial Intelligence Initiative. Additional information on the NAIAC is available at ai.gov/naiac/.

Comments: Individuals and representatives of organizations who would like to offer comments and suggestions related to items on the Committee's agenda for this meeting are invited to submit comments in advance of the meeting. Approximately ten minutes will be reserved for public comments, which will be read on a first-come, first-served basis. Please note that all comments submitted via email will be treated as public documents and will be made available for public inspection. All comments must be submitted via email with the subject line “December 13, 2023, NAIAC Meeting Comments” to naiac@nist.gov by 5:00 p.m. Eastern Time, Tuesday, December 12, 2023. NIST will not accept comments accompanied by a request that part or all of the comment be treated confidentially because of its business proprietary nature or for any other reason. Therefore, do not submit confidential business information or otherwise sensitive, protected, or personal information, such as account numbers, Social Security numbers, or names of other individuals.

Virtual Admittance Instructions: The meeting will be broadcast via web conference. Registration is required to view the web conference. Instructions to register will be made available on ai.gov/naiac/#MEETINGS. Registration will remain open until the conclusion of the meeting.

Alicia Chambers,
NIST Executive Secretariat.

[FR Doc. 2023-25954 Filed 11-22-23; 8:45 am]

BILLING CODE 3510-13-P